DEPARTMENT OF JUSTICE

Task Force for Faith-Based and Community Initiatives; Agency Information Collection Activities: Proposed Collection; Comments Requested

ACTION: 30-day notice of information collection under review: Survey on Ensuring Equal Opportunity for Applicants.

The Department of Justice, Task Force for Faith-Based and Community Initiatives has submitted the following information collection request to the Office of Management and Budget (OMB) for review and approval in accordance with the Paperwork Reduction Act of 1995. The proposed information collection is published to obtain comments from the public and affected agencies. This proposed information collection was previously published in the Federal Register (Volume 68, Number 100, and page 28263 on May 23, 2003, allowing for a 60-day comment period.

The purpose of this notice is to allow for an additional 30 days for public comment until September 29, 2003. This process is conducted in accordance with 5 CFR 1320.10.

Written comments and suggestions regarding the items contained in this notice, especially the estimated public burden and associated response time, should be directed to The Office of Management and Budget, Office of Information and Regulatory Affairs, Attention Department of Justice Desk Officer, Washington, DC 20503. Additionally, comments may be submitted to OMB via facsimile to (202) 395-7285. Written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information

(1) Type of information collection: Extension of a currently approved collection.

(2) The title of the form/collection: Survey on Ensuring Equal Opportunity for Applicants.

(3) The agency form number, if any, and the applicable component of the department sponsoring the collection: Form Number: none. Task Force for Faith-Based and Community Initiatives, Department of Justice.

(4) Affected public who will be asked or required to respond, as well as a brief abstract: Primary: not-for-profit institutions. Abstract: To ensure equal opportunity for all applicants including small, community-based, faith-based and religious groups, it is essential to collect information that enables the Federal agencies to determine the level of participation of such organizations in Federal grant programs while ensuring that such information is not used in grant-making decisions.

(5) An estimate of the total number of respondents and the amount of time estimated for an average respondent to respond/reply: There are approximately 15,361 respondents who will each require an average of five minutes to respond.

(6) An estimate of the total public burden (in hours) associated with the collection: The total annual public burden hours associated with this information collection is estimated to be 1,229 hours.

If additional information is required contact: Brenda E. Dyer, Department Deputy Clearance Officer, Policy and Planning Staff, Justice Management Division, United States Department of Justice, 601 D Street, NW., Patrick Henry Building, Suite 1600, Washington, DC 20530.

Dated: August 26, 2003.
Brenda E. Dyer,
Department Deputy Clearance Officer, Department of Justice.

[FR Doc. 03-22180 Filed 8-28-03; 8:45 am]

BILLING CODE 4410-20-P